DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of December 1, 2021 through December 31, 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
95,816 | Noron Composite Technologies, Inc | Manistee, MI | Increased Aggregate Imports.
96,758 | Forged Products, Inc | Houston, TX | ITC Determination.
96,827 | Acme Industries | Elk Grove Village, IL | ITC Determination.
97,054 | The McClatchy Company | Bellingham, WA | Shift in Services to a Foreign Country.
97,054A | The McClatchy Company | Sacramento, CA | Shift in Services to a Foreign Country.
97,054B | The McClatchy Company | Sweetwater, FL | Shift in Services to a Foreign Country.
97,054C | The McClatchy Company | Doral, FL | Shift in Services to a Foreign Country.
97,054D | The McClatchy Company | Belleville, IL | Shift in Services to a Foreign Country.
97,054E | The McClatchy Company | Wichita, KS | Shift in Services to a Foreign Country.
97,054F | The McClatchy Company | Lexington, KY | Shift in Services to a Foreign Country.
97,054G | The McClatchy Company | Kansas City, MO | Shift in Services to a Foreign Country.
97,054H | The McClatchy Company | Gulfport, MS | Shift in Services to a Foreign Country.
97,054I | The McClatchy Company | Charlotte, NC | Shift in Services to a Foreign Country.
97,054J | The McClatchy Company | Raleigh, NC | Shift in Services to a Foreign Country.
97,054K | The McClatchy Company | Bluffton, SC | Shift in Services to a Foreign Country.
97,054L | The McClatchy Company | Irving, TX | Shift in Services to a Foreign Country.
97,054M | The McClatchy Company | Fort Worth, TX | Shift in Services to a Foreign Country.
97,054N | The McClatchy Company | Kennewick, WA | Shift in Services to a Foreign Country.
97,054O | The McClatchy Company | Tacoma, WA | Shift in Services to a Foreign Country.
97,054P | The McClatchy Company | Olympia, WA | Shift in Services to a Foreign Country.
98,045 | Occidental Chemical Corporation | Niagara Falls, NY | Increased Customer Imports.
98,112 | Nonmetallic Machinery Assembly, Inc | Erie, PA | Upstream Supplier.

Negative Determinations for Trade Adjustment Assistance

The following investigations revealed that the eligibility criteria for TAA have not been met for the reason(s) specified.

TA-W No. | Subject firm | Location | Reason(s)
96,982 | Pendleton Woolen Mills, Inc | Pendleton, OR | No Sales or Production Decline or Other Basis.
97,004 | Doyon Drilling, Inc | Anchorage, AK | No Shift in Production or Other Basis.
97,005 | ExxonMobil Alaska Production Inc. (“EMAP”) | Anchorage, AK | No Sales or Production Decline or Other Basis.
97,017 | Peak Oilfield Service Company, LLC | Prudhoe Bay, AK | No Shift in Services or Other Basis.
97,018 | Schlumberger Technology Corporation | Prudhoe Bay, AK | No Shift in Production or Other Basis.
97,022 | ConocoPhillips Alaska | Anchorage, AK | No Shift in Production or Other Basis.
97,028 | A-dec, Inc. | Newberg, OR | No Sales or Production Decline or Other Basis.
98,049 | Mondelez Global LLC | Aurora, CO | Predominant Cause of Layoffs Unrelated to Imports, Shift in Production to Beneficiary Country, or Increase in Imports Following a Shift.
98,088 | Caterpillar Inc. | Morton, IL | Workers Do Not Produce an Article.
98,093 | Wells Fargo Bank N.A | Columbia, MD | Workers Do Not Produce an Article.
98,107 | Wells Fargo Bank N.A | Orlando, FL | Workers Do Not Produce an Article

Determinations Terminating Investigations for Trade Adjustment Assistance

The following investigations were terminated for the reason(s) specified.

TA-W No. | Subject firm | Location | Reason(s)
98,142 | FCA US LLC | Belvidere, IL | Ongoing Investigation in Process.

I hereby certify that the aforementioned determinations were issued during the period of December 1, 2021 through December 31, 2021. These determinations are available on the Department's website https://www.dol.gov/agencies/eta/tradeact under the searchable listing determinations or by calling the Office of Trade Adjustment Assistance toll free at 888-365-6822.

Signed at Washington, DC, this 7th day of January 2022.
Hope D. Kinglock,
Certifying Officer, Office of Trade Adjustment Assistance.

[FR Doc. 2022-01018 Filed 1-19-22; 8:45 am]

BILLING CODE 4510-FN-P